DEPARTMENT OF STATE

[Public Notice 6640]

Bureau of Educational and Cultural Affairs (ECA) Request for Grant Proposals: Critical Language Scholarships for Intensive Summer Institutes

Announcement Type: New Cooperative Agreements.

Funding Opportunity Number: ECA/A/E-10-01.

Catalog of Federal Domestic Assistance Number: 00.000.

Key Dates:

Application Deadline: July 10, 2009.

Executive Summary: The Office of Academic Exchange Programs of the Bureau of Educational and Cultural Affairs announces an open competition for two or more assistance awards for the 2010 Critical Language Scholarships for Intensive Summer Institutes, which provide foreign language instruction overseas for American undergraduate and graduate students. Public and private non-profit organizations, or consortia of such organizations, meeting the provisions described in Internal Revenue Code section 26 U.S.C. 501(c)(3), may submit proposals to cooperate with the Bureau in the administration and implementation of one or both of the two components available under this competition. Each component requires a separate proposal submission.

It is anticipated that the total amount of funding available for all FY 2010 administrative and program costs to support both program components A and B, including all language groupings, outlined below will be $10,000,000. Applicant organizations bidding on two or more language groups must submit a separate proposal not exceeding $350,000 for the recruitment and selection of all participants (Component A). Applicant organizations may submit proposals requesting funds not exceeding $9,650,000 to implement the CLS institutes between June and August 2010 (Component B).

Average participant costs per language group under Component B should not exceed $16,000.

Component A: Participant Recruitment and Selection: The first component of this competition is for recruitment and selection of all U.S. participants for these summer institutes. While the CLS Institutes are active in multiple countries, it is important that a single worldwide program identity be maintained. Therefore, applicant organizations applying to administer programs for two or more language groups are required to submit a separate proposal for this component, demonstrating the capacity to conduct a nationwide participant recruitment and selection process for all language institutes.

Only applicant organizations applying for two or more of the language groups listed below will be eligible to bid on this component. Only one organization will be selected to administer the participant recruitment and selection process.

Component B: Administration and Implementation of Institutes:

The second component is for the administration and implementation of six- to ten-week summer institutes overseas for participants in countries where Arabic, Chinese, Indonesian, Japanese, Korean, Russian and the Indic, Persian, and Turkic language families are widely spoken.

Eligible organizations or consortia may submit proposals for the administration and implementation of one or more of the following language groupings:

• Arabic language institutes in the Near East and North Africa region for not less than a total of 185 advanced beginning, intermediate and advanced students.

• Chinese, Indonesian, Japanese, and Korean language institutes in the East Asia and Pacific region for not less than a total of 155 beginning (Korean and Indonesian only), intermediate and advanced students.

• Azerbaijani, Russian and Turkish language institutes in the Europe and Eurasia region for not less than a total of 143 beginning (Turkish only), intermediate and advanced students.

• Persian and Indic (Bangla/Bengali, Hindi, Punjabi, and Urdu) language institutes in the South Central Asia region for not less than a total of 92 beginning (Indic languages only), intermediate and advanced students.

See section on “Country and Language Information” under “Administration and Implementation of Institutes” for additional information and a description of language levels.

These summer institutes should offer U.S. undergraduate and graduate students structured classroom instruction and less formal interactive learning opportunities through a comprehensive exchange experience that primarily emphasizes language learning. Proposals from applicant organizations should demonstrate the development of new institutional language-teaching capacity overseas for these summer institutes and not propose enrolling participants in programs already in existence. This program is designed to develop additional overseas language study opportunities for U.S. students.

I. Funding Opportunity Description

Authority: Overall grant making authority for this program is contained in the Mutual Educational and Cultural Exchange Act of 1961, Public Law 87-256, as amended, also known as the Fulbright-Hays Act. The purpose of the Act is “to enable the Government of the United States to increase mutual understanding between the people of the United States and the people of other countries * * * ; to strengthen the ties which unite us with other nations by demonstrating the educational and cultural interests, developments, and achievements of the people of the United States and other nations * * * and thus to assist in the development of friendly, sympathetic and peaceful relations between the United States and the other countries of the world.” The funding authority for the program above is provided through legislation.

Purpose: The Bureau of Educational and Cultural Affairs (ECA) is supporting the participation of American undergraduate and graduate students in intensive, substantive foreign language study to dramatically increase the number of Americans learning, speaking, and teaching critical need foreign languages.

Foreign language skills are essential to engaging foreign governments and peoples, especially in critical world regions, to promote understanding, convey respect for other cultures, and encourage reform. These skills are also fundamental to the economic competitiveness and security interests of the nation.

The goals of the Critical Language Scholarships (CLS) for Intensive Summer Institutes are:

• To develop a cadre of Americans with advanced linguistic skills and related cultural understanding who are able to advance international dialogue, and compete effectively in the global economy; and

• To improve the ability of Americans to engage with the people of other countries in the language of the partner country.

In order to achieve these goals, the Bureau supports programs for American undergraduate and graduate students to gain and improve language proficiency in Arabic, Chinese, Indonesian, Japanese, Korean, Russian and the Indic, Persian, and Turkic language families. ECA plans to issue a single award for recruitment and selection of all participants and one or more awards for the administration of the CLS Institutes. Organizations with expertise in one or more of the indicated languages may also seek partners in the other languages to submit a single proposal as a consortium. Consortia submitting proposals must designate a lead institution to receive the award.

Other Notes: The organization must inform the ECA program officer of its progress at each stage of the project's implementation in a timely fashion.

Component A: Participant Recruitment and Selection

An applicant organization applying for two or more language groups must submit a separate proposal to conduct a nationwide competition for participants, which includes recruiting, screening, and selecting U.S. citizen undergraduate and graduate students for the program. Funding requested in a proposal for this element should not exceed $350,000.

Recruitment: Applicant organizations should propose a comprehensive outreach plan to publicize and recruit for the program at U.S. colleges and universities nationwide. Information about the overall CLS program and specific institutes, along with all accompanying application materials, should be posted online.

The Bureau requests that student applicants use an online application system. An alternate paper-based application should also be provided for those candidates unable to apply online. These paper-based applications, however, must be entered into the online system by recipient organization program staff. All application materials should be available in a sortable, searchable, electronically accessible database format that can be easily shared with the Bureau upon request.

Selection: Selected participants should show strong evidence of ability to succeed in an intensive, demanding language study program and should represent the diversity of the United States. Diversity addresses religion, ethnicity, socio-economic status, and physical abilities. Selected students should also represent diversity of institutional type and fields of study, a balance between genders, and a balance between undergraduate and graduate students. Preference should be given to candidates with no previous study overseas. Selected students should have completed at least their first year of undergraduate study by the summer of 2010. Selected students should demonstrate the intention and ability to continue their language study beyond the scholarship period and apply their critical language skills later in their professional careers. The students' language skills at the start of the institute should meet the requirements for each language outlined in Component B.

ECA should approve the selection plan for candidates, as well as the selection of both finalists and alternates for the program.

Publicity: The proposal must describe how these intensive summer language institutes will be publicized to media outlets, including print, online, and broadcast to reach the widest possible audience of qualified students. The applicant organization should also describe the response to and management of a significant volume of queries and applications and proposed ideas to ensure diversity. The recipient organization will also work closely with ECA to publicize the achievements of the students attending these institutes. The applicant organization should provide information on successful media outreach campaigns it has conducted in the past. Please refer to the PSI for additional guidance.

Other Notes: All materials and correspondence related to the program will acknowledge it as a program of the Bureau of Educational and Cultural Affairs of the U.S. Department of State. ECA will retain copyright use of and be allowed to distribute materials related to this program as it sees fit.

Planning Meeting: The recipient organization will be responsible for convening a planning meeting for all institute directors and relevant ECA staff. This planning meeting should occur in Washington, DC in the winter of 2009/2010.

The planning meeting is intended to develop common elements and consistency of standards across all institutes. Among the agenda items will be presentations by each recipient organization of their preliminary plans for the proposed institute(s), especially contact hours of language instruction. Planned cultural activities that include language-learning components should also be presented. Issues related to student placement, testing, and evaluation should also be discussed. The recipient organization for Component A should present on the plan for recruitment and selection of all participants.

This meeting should be planned in close consultation with ECA.

Component B: Administration and Implementation of Institutes

Through these institutes, undergraduate and graduate students from the United States will spend six to ten weeks on programs abroad in the summer of 2010. Since there is an emphasis on substantial progress in foreign language advancement, applicant organizations need to explain clearly the utility and advantages when proposing programs of approximately six weeks. The CLS institutes will provide intensive language instruction in a classroom setting, and should also provide language-learning opportunities through immersion in the cultural, social, and educational life of the partner country. The program should enhance the participants' knowledge of the host country's history, culture, and political system as these support language learning. Language study must be the primary focus of the program.

Applicant organizations should submit a proposal for administration of one or more of the language groups. Funding requested in proposals for the administration of all language groups should not exceed $9,650,000. Average participant costs per language group should not exceed $16,000.

Expected Program Results:

• Participants will demonstrate a substantive, measurable increase in language proficiency (verified through testing).

• Participants will demonstrate a deeper understanding of the host country's society, institutions, and culture.

• Alumni will continue their foreign language study, apply their linguistic skills in their chosen career fields, and/or participate in other exchanges where the language they have studied is spoken.

Capacity of Administering Organization: U.S. applicant organizations or consortia must have the necessary capacity in the partner country or countries to implement the program through either their own offices or partner institutions. Organizations may demonstrate their organization's direct expertise, or they may partner with other organizations to best respond to the requirements outlined in this RFGP. Organizations that opt to work with sub-award arrangements should clearly outline all duties and responsibilities of the partner organization, preferably in the form of sub-award agreements and accompanying budgets.

Organizations or consortia applying for this award must demonstrate their capacity for conducting projects of this nature, focusing on three areas of competency: (1) Provision of foreign language instruction programs and provision of educational and cultural activities as outlined in this document; (2) language level-appropriate programming for the target audience; and (3) experience in conducting programs in the proposed partner country or countries. Applicant organizations must present a proposal that clearly indicates the building of new and increased institutional language study capacity overseas for these summer institutes.

Institute Information: Each six-to ten-week overseas summer institute for undergraduate and graduate students should focus on language study and should include four to six hours per day of formal and informal language training. The recipient organization(s) should provide multiple levels (beginning to advanced) of language instruction. While teaching conversational vocabulary will be necessary to help students function in their immersion setting, classes should also provide formal instruction in grammar, vocabulary, and pronunciation, as well as covering speaking, listening, reading, and writing, including non-Roman alphabets.

The institutes should also include a secondary cultural immersion component designed to reinforce language learning with planned excursions, which give the students the opportunity to participate in activities designed to teach them about community life and the culture and history of the host country. The program activities should enhance the participants' understanding of contemporary society, culture, media, political institutions, ethnic diversity, history, and environment of the host country. All these activities should incorporate a language component.

Staff should be physically present and available to support the participants throughout the institute.

The Bureau reserves the right to make changes in eligible countries for programming based on safety and security or other concerns.

Country and Language Information: Near East and North Africa Region

For Arabic language institutes: Applicant organizations should describe plans for not less than a total of 185 participants in the Arabic language institutes. Arabic language instruction should be available for three levels of students: advanced beginning, intermediate, and advanced. Approximately 120 of the participants should receive instruction at the intermediate/advanced levels while the rest should receive elementary level instruction. The proposed institutes should make explicit accommodation for learners of varying skill levels.

Classroom instruction should emphasize Modern Standard Arabic with class time devoted also to colloquial Arabic, as appropriate. Students should also gain knowledge of colloquial Arabic through informal study and through interaction with their host community.

Some previous study of the language—at least equivalent to an academic year—is required for participants in the elementary Arabic institutes. Participants in the intermediate/advanced Arabic institutes will have already studied the language formally for at least two years by the start of the summer program. The recipient organization should devise a plan to test all students prior to placement to determine the appropriate level of instruction.

Applicant organizations should plan to place students in a country or countries in North Africa, the Middle East, or the Gulf region, with the exception of Algeria, Iraq, Israel, Libya, Lebanon, Saudi Arabia, and Yemen. Applicant organizations should not plan to place students in the West Bank or Gaza.

East Asia and Pacific Region

For Chinese language institutes:

Applicant organizations should describe plans for not less than a total of 80 participants in the Chinese language institutes. Chinese language instruction should be available for two levels of students: intermediate and advanced. The proposed institutes should make explicit accommodation for learners of varying skill levels.

Chinese instruction should be in Mandarin only. Teaching materials used in the program should be available in both simplified and traditional character versions. The Hanyu pinyin romanization system should be used.

Participants in the intermediate/advanced Chinese institutes will have already studied the language formally for at least two years by the start of the summer program. The recipient organization should devise a plan to test all students prior to placement to determine what level of instruction should be received.

Applicant organizations should plan to place students in the People's Republic of China (mainland China) for study.

For Indonesian language institutes: Applicant organizations should describe plans for not less than a total of 15 participants in the Indonesian language institutes. Indonesian language instruction should be available for three levels of students: beginning, intermediate, and advanced. Eight of the participants should receive instruction at the intermediate/advanced level while the rest should receive beginning level instruction. The proposed institute should make explicit accommodation for learners of varying skill levels.

No prior study of the language is required for participants in the beginning Indonesian institutes. Participants in the intermediate/advanced Indonesian institutes will have already studied the language formally for at least two years by the start of the summer program. The recipient organization should devise a plan to test all students prior to placement to determine what level of instruction should be received.

Applicant organizations should plan to place students in Indonesia.

For Japanese language institutes: Applicant organizations should describe plans for not less than a total of 30 participants in the Japanese language institutes. Japanese language instruction should be available for two levels of students: intermediate, and advanced. The proposed institutes should make explicit accommodation for learners of varying skill levels.

Participants in the intermediate/advanced Japanese institutes will have already studied the language formally for at least two years by the start of the summer program. The institutes should devise a plan to test all students prior to placement to determine what level of instruction should be received.

Applicant organizations should plan to place students in Japan. Location of the institutes should be in a city other than Tokyo in order to maximize language-learning immersion opportunities.

For Korean language institutes: Applicant organizations should describe plans for not less than a total of 30 participants in the Korean language institutes. Korean language instruction should be available for three levels of students: beginning, intermediate, and advanced. Ten of the participants should receive instruction at the intermediate/advanced level while the rest should receive beginning level instruction. The proposed institutes should make explicit accommodation for learners of varying skill levels.

The Hangeul alphabet system should be used. Students should also be introduced to NAKL.

No prior study of the language is required for participants in the beginning Korean institutes. Participants in the intermediate/advanced Korean institutes will have already studied the language formally for at least two years by the start of the summer program. The recipient organization should devise a plan to test all students prior to placement to determine what level of instruction should be received.

Applicant organizations should plan to place students in South Korea. Location of the institutes should be in a city other than Seoul in order to maximize language-learning immersion opportunities.

Europe and Eurasia Region

For Azerbaijani language institute: Applicant organizations should describe plans for not less than a total of eight participants in the Azerbaijani language institute. Azerbaijani language instruction should be available for two levels of students: intermediate, and advanced. The proposed institutes should make explicit accommodation for learners of varying skill levels, as well as for a potential bridge course for Turkish speakers who wish to learn Azerbaijani.

Participants in the intermediate/advanced Azerbaijani institute will have already studied the language formally for at least two years by the start of the summer program. Students who have studied Turkish formally for at least two years by the start of the summer program may also be considered. The recipient organization should devise a plan to test intermediate/advanced students prior to placement to determine what level of instruction should be received.

Applicant organizations should plan to place students in Azerbaijan.

For Russian language institutes: Applicant organizations should describe plans for not less than a total of 80 participants in the Russian language institutes. Russian language instruction should be available for two levels of students: intermediate and advanced. The proposed institutes should make explicit accommodation for learners of varying skill levels.

Participants in the intermediate/advanced Russian institutes will have already studied the language formally for at least two years by the start of the summer program. The recipient organization should devise a plan to test all students prior to placement to determine what level of instruction should be received.

Applicant organizations should plan to place students in Russia. Location of the institutes should be in a city other than Moscow or St. Petersburg in order to maximize language-learning immersion opportunities.

For Turkish language institutes: Applicant organizations should describe plans for not less than a total of 55 participants in the Turkish language institutes. Turkish language instruction should be available for three levels of students: beginning, intermediate, and advanced. Thirty-five of the participants should receive instruction at the intermediate/advanced level while the rest should receive beginning level instruction. The proposed institutes should make explicit accommodation for learners of varying skill levels.

No prior study of the language is required for participants in the beginning Turkish institutes. Participants in the intermediate/advanced Turkish institutes will have already studied the language formally for at least two years by the start of the summer program. The recipient organization should devise a plan to test intermediate/advanced students prior to placement to determine what level of instruction should be received.

Applicant organizations should plan to place students in Turkey. Location of the institutes should be in a city other than Istanbul in order to maximize language-learning immersion opportunities.

South Central Asia Region

For Indic language institutes: Applicant organizations should describe plans for not less than a total of 72 participants in the Indic language institutes. Instruction should be available for each of these Indic languages: Bangla/Bengali, Hindi, Punjabi, and Urdu. For these language institutes, not less than 18 students should learn Bengali/Bangla, not less than 18 Hindi, not less than 18 Punjabi, and not less than 18 Urdu. All Indic language instruction should be available for three levels of students: beginning, intermediate, and advanced. Overall, 36 of the participants should receive instruction at the intermediate/advanced level while the rest should receive beginning level instruction. The proposed institutes should make explicit accommodation for learners of varying skill levels.

No prior study of the language is required for participants in the beginning Indic institutes. Participants in the intermediate/advanced Indic institutes will have already studied the relevant language formally for at least two years by the start of the summer program. The recipient organization should devise a plan to test all students prior to placement to determine what level of instruction should be received.

Applicant organizations should plan to place students in Bangladesh and/or India.

For Persian language institutes: Applicant organizations should describe plans for not less than a total of 20 participants in the Persian language institutes. Persian language instruction should be available for two levels of students: intermediate, and advanced. The proposed institutes should make explicit accommodation for learners of varying skill levels.

Participants in the intermediate/advanced Persian institutes will have already studied the language formally for at least two years by the start of the summer program. The institutes should devise a plan to test all students prior to placement to determine what level of instruction should be received.

Applicant organizations should plan to place students in a site outside of Iran for the study of Persian.

Orientations: Recipient organization(s) will organize substantive, in-person, pre-departure orientations for all participants. Working in consultation with ECA, the orientation should include a security briefing on the host country. The orientations must take place in Washington, DC. Comprehensive information packets should be provided, preferably online, well in advance of the orientation to all participants. A sample of the contents of these packets should be provided under Tab E.

Recipient organization(s) may also organize substantive orientation for participants on arrival in the host country. The recipient organization(s) may also need to work in consultation with ECA and the U.S. Embassy in the host country to arrange an in-country security briefing to be conducted by the Embassy's Regional Security Officer.

At the end of each language program, the recipient organization(s) will organize an in-country closing workshop for the students prior to departure from their host country, which will focus on summarizing the experience, completing an evaluation, language testing, developing plans for activities at home, and preparing for re-entry.

Project Activities: Describe in detail the major components of the program, including project planning; the host venues; orientations (U.S. and overseas); assessment and testing; language instruction; educational enrichment activities; cultural activities; participant monitoring; and logistics.

Assessment and Testing: Standardized pre- and post-institute testing should be done to determine participants' language proficiency and progress.

Pre- and post-testing should measure the student's advancement in language learning. ECA will work with the recipient organization(s) to develop and implement an instrument to measure students' increased language proficiency due to participation in this program. The data should be analyzed and reported by the recipient organization(s) to ECA for the program, disaggregated by institute.

Alumni Tracking and Follow-On Activities: Alumni activities are an important part of ECA's academic exchange programs. Alumni programming in the form of newsletters and listservs provides critical program follow-on and maximizes and extends the benefit of the participants' program. Please refer to the PSI for additional guidance on alumni outreach and follow-on engagement.

ECA maintains the alumni.state.gov Web site for all of its exchange program participants. The CLS Program maintains an online community through this global Web site. The recipient organization(s) will also be responsible for maintaining this community on behalf of the CLS Program.

The applicant organization is strongly urged to outline how it will creatively organize and financially support alumni activities at a minimal cost to ECA.

ECA/A/E Involvement: In a Cooperative Agreement, ECA/A/E is substantially involved in program activities above and beyond routine award monitoring. ECA/A/E activities and responsibilities for this program are as follows:

Component A: Participant Recruitment and Selection.

(1) Review all print and online materials regarding the institutes before publication and dissemination.

(2) Review and approve the recruitment strategy.

(3) Work with the recipient organization to publicize the program through various media outlets.

(4) Review and approve application forms.

(5) Participate in selection committees.

(6) Confirm final selection of principal and alternate candidates.

Component B: Administration and Implementation of Institutes.

(1) Review all print and online materials regarding the institutes before publication and dissemination. This review also includes individual institute's instructional materials and cultural activities, which must be provided to ECA at least two months in advance of the start of the institute.

(2) Review and approve participant award documentation, including Terms and Conditions.

(3) Work with recipient organization(s) to plan and implement participant pre-departure orientations.

(4) Work with recipient organization(s) to offer standardized pre- and post-institute testing of participants' language proficiency and progress.

(5) Review project activity schedules for all institutes.

(6) Monitor the progress of the recipient organization(s) at each stage of the project's implementation through timely updates.

(7) Provide Bureau-approved evaluation surveys for completion by participants after completion of program.

(8) Provide substantive input on alumni activities and follow-up events.

Funding: Award funding for Component A involving recruitment, selection, and the directors' meeting will cover costs associated with this component, not exceeding $350,000. Award funding for Component B involving administration and implementation of the institutes will support costs including testing, orientation, travel, tuition and maintenance costs, educational enhancements, cultural and social activities, health benefits coverage, alumni activities, and administrative costs. This element should not exceed $9,650,000 overall. Average participant costs per language group should not exceed $16,000.

Though not directly applicable to this program, programs must comply with J-1 visa regulations. Please refer to the Project Objectives, Goals, and Implementation (POGI) document and the Proposal Submission Instructions for further information.

II. Award Information

Type of Award: Cooperative Agreement. ECA's level of involvement in this program is listed under number I above.

Fiscal Year Funds: 2010.

Approximate Total Funding: $10,000,000.

Approximate Number of Awards: 2 or more.

Ceiling of Award Range: $9,650,000.

Floor of Award Range: $350,000.

Anticipated Award Date: Pending availability of funds, the proposed start date is October 1, 2010.

Anticipated Project Completion Date: Approximately 14 to 18 months after the start date, depending on the proposed program plan.

Additional Information: Pending successful implementation of this program and the availability of funds in subsequent fiscal years, it is ECA's intent to renew this cooperative agreement for two additional fiscal years before openly competing it again.

III. Eligibility Information

III.1. Eligible Applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved award agreement. Cost sharing may be in the form of allowable direct or indirect costs. For accountability, you must maintain written records to support all costs that are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements: Bureau grant guidelines require that organizations with less than four years experience in conducting international exchanges be limited to $60,000 in Bureau funding. ECA anticipates awarding two or more cooperative agreement awards in an amount over $60,000 to support program and administrative costs required to implement this exchange program. Therefore, organizations with less than four years experience in conducting international exchanges are ineligible to apply under this competition.

IV. Application and Submission Information

Note: Please read the complete announcement before sending inquiries or submitting proposals. Once the RFGP deadline has passed, Bureau staff may not discuss this competition with applicants until the proposal review process has been completed.

IV.1 Contact Information to Request an Application Package: Please contact the Office of Academic Exchange Programs (ECA/A/E), Room 234, U.S. Department of State, SA-44, 301 4th Street, SW., Washington, DC 20547, Telephone (202) 453-8135, Fax (202) 453-8125, E-mail: ManleyHL@state.gov to request a Solicitation Package. Please refer to the Funding Opportunity Number (ECA/A/E-10-01) located at the top of this announcement when making your request.

Alternatively, an electronic application package may be obtained from Grants.gov. Please see section IV.3f for further information.

The Solicitation Package contains the Proposal Submission Instruction (PSI) document, which consists of required application forms and standard guidelines for proposal preparation.

It also contains the Project Objectives, Goals and Implementation (POGI) document, which provides specific information, award criteria, and budget instructions tailored to this competition.

Please specify Bureau Special Projects Officer Heidi Manley and refer to the Funding Opportunity Number located at the top of this announcement on all other inquiries and correspondence.

IV.2. To Download a Solicitation Package Via Internet: The entire Solicitation Package may be downloaded from the Bureau's Web site at http://exchanges.state.gov/grants/open2.html, or from the Grants.gov Web site at http://www.grants.gov.

Please read all information before downloading.

IV.3. Content and Form of Submission: Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 form that is part of the formal application package.

IV.3b. All proposals must contain an executive summary, proposal narrative and budget. Applicant organizations bidding on two or more language groups should submit one proposal for administration and implementation of the language institutes and a separate proposal for recruitment and selection of all participants. Each proposal should contain an executive summary, proposal narrative and budget.

Please refer to the Solicitation Package. It contains the mandatory Proposal Submission Instructions (PSI) document and the Project Objectives, Goals and Implementation (POGI) document for additional formatting and technical requirements.

IV.3c. You must have nonprofit status with the IRS at the time of application. Please note: Effective January 7, 2009, all applicants for ECA federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, award recipients will also be required to submit a one-page document, derived from their program reports, listing and describing their grant activities. For award recipients, the names of directors and/or senior executives (current officers, trustees, and key employees), as well as the one-page description of grant activities, will be transmitted by the State Department to OMB, along with other information required by the Federal Funding Accountability and Transparency Act (FFATA), and will be made available to the public by the Office of Management and Budget on its USASpending.gov Web site as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing the J Visa

Although not applicable to this competition, the Bureau of Educational and Cultural Affairs places critically important emphases on the security and proper administration of the Exchange Visitor (J visa) Programs and adherence by award recipients and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, record-keeping, reporting and other requirements.

A copy of the complete regulations governing the administration of Exchange Visitor (J) programs is available at http://exchanges.state.gov or from:

United States Department of State, Office of Exchange Coordination and Designation, ECA/EC/ECD—SA-44, Room 734, 301 4th Street, SW., Washington, DC 20547, Telephone: (202) 203-5029, FAX: (202) 453-8640.

Please refer to Solicitation Package for further information.

IV.3d.2. Diversity, Freedom and Democracy Guidelines: Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation: Proposals must include a plan to monitor and evaluate the project's success, both as the activities unfold and at the end of the program. The Bureau recommends that your proposal include a draft survey questionnaire or other technique plus a description of a methodology to use to link outcomes to original project objectives. Each applicant organization must plan to use three surveys through the Bureau's E-GOALS system, in addition to any surveys of its own. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

(1) Participant satisfaction with the program and exchange experience.

(2) Participant learning, such as increased knowledge, aptitude, skills, and changed understanding and attitude. Learning includes both substantive (subject-specific) learning and mutual understanding.

(3) Participant behavior, concrete actions to apply knowledge in work or community; greater participation and responsibility in civic organizations; interpretation and explanation of experiences and new knowledge gained; continued contacts between participants, community members, and others.

(4) Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to the Bureau upon request.

Additional guidance on using the Bureau's E-GOALS system for evaluation is located in the POGI.

IV.3d.4. Describe in your proposal your plans for: overall program management, staffing, coordination with ECA and with overseas institutes enrolling clusters of students, testing, orientation, and cultural enrichment opportunities for students. If bidding on two or more language groups, also indicate your plans for recruitment and selection. Please provide a staffing plan that outlines the responsibilities of each staff person and explains which staff members will be accountable for each program responsibility.

IV.3e. Please take the following information into consideration when preparing your budget:

IV.3e.1. Applicants must submit SF-424A—“Budget Information—Non-Construction Programs” along with a comprehensive budget for the entire program. Applicants must submit a comprehensive budget for the entire program.

Budget requests for administration of both Component A and B may not exceed $10,000,000. There must be a summary budget as well as breakdowns reflecting both administrative and program budgets. Applicants should provide separate sub-budgets for each program component, phase, location, or activity to provide clarification. Applicants should also provide copies of any sub-award agreements that would be implemented under terms of this award.

IV.3e.2. Allowable costs for the program and additional budget guidance are outlined in detail in the POGI document.

Please refer to the POGI and the PSI documents in the Solicitation Package for complete budget guidelines and formatting instructions.

IV.3F. Application Deadline and Methods Of Submission:

Application Deadline Date: July 10, 2009.

Reference Number: ECA/A/E-10-01.

Methods of Submission

Applications may be submitted in one of two ways:

(1) In hard-copy, via a nationally recognized overnight delivery service (i.e., DHL, Federal Express, UPS, Airborne Express, or U.S. Postal Service Express Overnight Mail, etc.), or

(2) Electronically through http://www.grants.gov.

Please Note: ECA strongly encourages organizations interested in applying for this competition to submit printed, hard copy applications as outlined in section IV.3f.1., below rather than submitting electronically through Grants.gov. This recommendation is being made as a result of the anticipated high volume of grant proposals that will be submitted via the Grants.gov webportal as part of the Recovery Act stimulus package. As stated in these RFGPs, ECA bears no responsibility for data errors resulting from transmission or conversion processes for proposals submitted via Grants.gov.

Along with the Project Title, all applicants must enter the above Reference Number in Box 11 on the SF-424 contained in the mandatory Proposal Submission Instructions (PSI) of the solicitation document.

IV.3f.1. Submitting Printed Applications: Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original, one fully-tabbed copy, and eight copies of the application with Tabs A-E (for a total of ten copies) should be sent to: U.S. Department of State, SA-44, Bureau of Educational and Cultural Affairs, Ref.: ECA/A/E-10-01, Program Management, ECA/EX/PM, Room 534, 301 4th Street, SW., Washington, DC 20547.

Applicants submitting hard-copy applications must also submit the “Executive Summary” and “Proposal Narrative” sections of the proposal in text (.txt) or Microsoft Word format on a PC-formatted disk. The Bureau will provide these files electronically to the appropriate Public Affairs Section(s) at the U.S. embassy(ies) for its(their) review.

IV.3f.2. Submitting Electronic Applications: Applicants have the option of submitting proposals electronically through Grants.gov (http://www.grants.gov). Complete solicitation packages are available at Grants.gov in the “Find” portion of the system.

Please Note: ECA strongly encourages organizations interested in applying for this competition to submit printed, hard copy applications as outlined in section IV.3f.1. above, rather than submitting electronically through Grants.gov. This recommendation is being made as a result of the anticipated high volume of grant proposals that will be submitted via the Grants.gov webportal as part of the Recovery Act stimulus package.

As stated in this RFGP, ECA bears no responsibility for data errors resulting from transmission or conversion processes for proposals submitted via Grants.gov.

Please follow the instructions available in the ‘Get Started' portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your Internet connection. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to: Grants.gov Customer Support, Contact Center Phone: 800-518-4726, Business Hours: Monday-Friday, 7 a.m.-9 p.m. Eastern Time, e-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Please refer to the Grants.gov Web site, for definitions of various “application statuses” and the difference between a submission receipt and a submission validation. Applicants will receive a validation e-mail from grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov Web portal to ensure that proposals have been received by Grants.gov in their entirety, and ECA bears no responsibility for data errors resulting from transmission or conversion processes.

IV.3g. Intergovernmental Review of Applications: Executive Order 12372 does not apply to this program.

V. Application Review Information

V.1. Review Process: The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (cooperative agreements) resides with the Bureau's Grants Officer.

Review Criteria: Technically eligible applications will be competitively reviewed according to the criteria stated below:

(1) Quality of the Program Idea: Proposals should exhibit originality, substance, precision, and relevance to the Bureau's mission and the purposes outlined in this solicitation. Proposals should demonstrate how students would be monitored and trained, and also how they will be supported as alumni. If bidding on two or more language groups, proposals should also show how students would be recruited and selected. The level of creativity, resources, and effectiveness will be primary factors for review.

(2) Program Planning and Ability to Meet Program Objectives: Proposals should clearly demonstrate an understanding of the program's priorities and how the organization will achieve them through objectives that are reasonable, feasible, and flexible. The Narrative should address all of the items in the Statement of Work and Guidelines described above. A detailed agenda and relevant work plan should demonstrate organizational competency and logistical capacity. Agenda and plan should adhere to the program overview, timetable and guidelines described in this solicitation. The substance of the instruction and the exchange activities should be described in detail and included as an attachment. The responsibilities of partner organizations will be clearly delineated.

(3) Support of Diversity: Proposals should demonstrate substantive support of the Bureau's policy on diversity in both program administration (selection of participants, program venue, and program evaluation) and program content (orientation and wrap-up sessions, program meetings, resource materials, and follow-up activities). Proposals should articulate a diversity plan, not just a statement of compliance.

(4) Follow-on/Alumni Activities: Proposals should provide a plan for continued contact with returnees to ensure that they are tracked over time, utilized and/or organized as alumni, and provided opportunities to reinforce the knowledge and skills they acquired on the exchange and share them with others. Proposals should provide a strategy for maximizing the opportunities for alumni to further their study of the language and culture of the host country, presenting plans that are within the context of the grant (with Bureau support) and after its completion (without the Bureau's financial support). Please refer to the PSI for additional guidance on alumni outreach and follow-on engagement.

(5) Institutional Capacity: Applicant organizations should demonstrate knowledge of each country's educational environment and the capacity for hosting this language institute. Proposals should include detailed information about the applicant organization's capacity in the United States and about in-country support for the program, including descriptions of experienced personnel who will implement it. Institutional resources should be adequate and appropriate to achieve the project's goals. Proposals should demonstrate an institutional record of successful exchange programs. The Bureau will consider the past performance of prior recipients and the demonstrated potential of new applicants.

(6) Program Evaluation: Proposals should include a plan and methodology to evaluate the program's successes and challenges, both as the activities unfold and at the end of the program. The evaluation plan should show a clear link between program objectives and expected outcomes, and should include a description of performance indicators and measurement tools. Applicant organizations will indicate their willingness to submit periodic progress reports in accordance with the program office's expectations. The final project evaluation should provide qualitative and quantitative data about the project's influence on the participants' long-term language-learning goals.

(7) Cost-Effectiveness/Cost-Sharing: The overhead and administrative components of the proposal, including salaries and honoraria, should be kept as low as possible. While lower “per participant” figures will be favorably viewed, the Bureau expects all figures to be realistic. All other items should be necessary and appropriate. Proposals should maximize cost-sharing through institutional direct funding contributions, as well as other private sector support. Proposals should demonstrate a quality, cost-effective program. Proposals that demonstrate a significant reduction to per participant costs will be determined to be more competitive.

VI. Award Administration Information

VI.1a. Award Notices: Final awards cannot be made until funds have been appropriated by Congress, allocated and committed through internal Bureau procedures. Successful applicants will receive an Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.2 Administrative and National Policy Requirements: Terms and Conditions for the Administration of ECA agreements include the following:

Office of Management and Budget Circular A 122, “Cost Principles for Nonprofit Organizations.”

Office of Management and Budget Circular A-21, “Cost Principles for Educational Institutions.”

OMB Circular A-87, “Cost Principles for State, Local and Indian Governments”.

OMB Circular No. A 110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants. http://fa.statebuy.state.gov.

VI.3. Reporting Requirements: You must provide ECA with a hard copy original plus two copies of the following reports:

(1) A final program and financial report no more than 90 days after the expiration of the award;

(2) A concise, one-page final program report summarizing program outcomes no more than 90 days after the expiration of the award. This one-page report will be transmitted to OMB, and be made available to the public via OMB's USAspending.gov Web site—as part of ECA's Federal Funding Accountability and Transparency Act (FFATA) reporting requirements.

(3) A SF-PPR, “Performance Progress Report” Cover Sheet with all program reports.

(4) Interim program and financial reports that include information on the progress made on the program plan and program results to date.

Award recipients will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VI.4. Program Data Requirements: Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. Final schedules for in-country and U.S. activities must be received by the ECA Program Officer at least three work days prior to the official opening of the activity.

VII. Agency Contacts

For questions about this announcement, contact: Heidi Manley, Office of Academic Exchange Programs, Bureau of Educational and Cultural Affairs, ECA/A/E-10-01, U.S. Department of State, SA-44, 301 4th Street, SW., Room 234, Washington, DC 20547, Telephone (202) 453-8135, Fax (202) 453-8125, E-mail: ManleyHL@state.gov.

All correspondence with the Bureau concerning this RFGP should reference the above title and number ECA/A/E-10-01.

Please read the complete Federal Register announcement before sending inquiries or submitting proposals. Once the RFGP deadline has passed, Bureau staff may not discuss this competition with applicants until the proposal review process has been completed.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. In addition, it reserves the right to accept proposals in whole or in part and to make an award or awards in the best interest of the program. Awards made will be subject to periodic reporting and evaluation requirements per section VI.3 above.

Dated: May 18, 2009.
C. Miller Crouch,
Acting Assistant Secretary for Educational and Cultural Affairs, Department of State.

[FR Doc. E9-12416 Filed 5-27-09; 8:45 am]

BILLING CODE 4710-05-P